ENVIRONMENTAL PROTECTION AGENCY

40 CFR Part 52

[EPA-R01-OAR-2010-0042; FRL-10021-29-Region 1]

Air Plan Approval; Connecticut; Definitions of Emergency and Emergency Engine

AGENCY: Environmental Protection Agency (EPA).

ACTION: Proposed rule.

SUMMARY: The Environmental Protection Agency (EPA) is proposing to approve a State Implementation Plan (SIP) revision submitted by the State of Connecticut on December 20, 2019. This revision amends the State's definitions of “emergency” and “emergency engine” in its air quality regulations. The intended effect of this action is to propose approval of the December 20, 2019, submittal into the Connecticut SIP. This action is being taken under the Clean Air Act.

DATES: Written comments must be received on or before April 14, 2021.

ADDRESSES: Submit your comments, identified by Docket ID No. EPA-R01-OAR-2021-0042 at https://www.regulations.gov, or via email to creilson.john@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: John Creilson, Air Quality Branch, U.S. Environmental Protection Agency, EPA Region 1, 5 Post Office Square—Suite 100, (Mail code 05-2), Boston, MA 02109, tel. (617) 918-1688, email creilson.john@epa.gov.

SUPPLEMENTARY INFORMATION: Throughout this document whenever “we,” “us,” or “our” is used, we mean EPA.

Table of Contents

I. Background and Purpose

II. Connecticut's SIP Revision

III. Proposed Action

IV. Incorporation by Reference

V. Statutory and Executive Order Reviews

I. Background and Purpose

On December 20, 2019, the Connecticut Department of Energy and Environmental Protection (DEEP) submitted a revision to its State Implementation Plan (SIP) to add a recent amendment to Connecticut's air quality regulations concerning the definitions of “emergency” and “emergency engine,” which became effective as state law on October 8, 2019.

Effective June 1, 2018, the Independent System Operator for New England (ISO-NE) revised its Operating Procedure No. 4 to reflect changes in how demand response generating units are compensated in the energy markets. Since 2005, DEEP has referred to ISO-NE's Operating Procedure No. 4 to describe certain circumstances under which an electric generating unit is classified as an emergency unit within its air quality regulations. Due to the ISO-NE's revisions, references to Operating Procedure No. 4 in Connecticut's air quality regulations no longer produce the desired result in classifying electric generating units as emergency units for air quality purposes. Classification as an emergency unit means that the unit can only operate during capacity deficiencies (true reliability emergencies) and exempts the unit from meeting certain air quality requirements. Retaining the existing reference could create confusion in the regulated community and allow an increase in emissions if an emission unit owner not entitled to an emergency classification claimed emergency status to avoid expensive pollution controls.

II. Connecticut's SIP Revision

On December 20, 2019, the Connecticut Department of Energy and Environmental Protection (DEEP) submitted a SIP revision to EPA. The SIP revision replaces two definitions within the previously approved Regulations of Connecticut State Agencies (RCSA) Section 22a-174-22e, Control of NOX Emissions from Fuel-burning Equipment at Major Stationary Sources of NOX. The revision proposes to add to the State's SIP a recent amendment to 22a-174-22e concerning the definitions of “emergency” and “emergency engine,” which became effective as a state requirement on October 8, 2019. On the whole, this action will make Connecticut's definition of these terms consistent with the revisions to ISO-NE Operating Procedure No. 4 to reflect changes in how demand response generating units are compensated in the energy markets and will have a beneficial effect on air quality by reducing NOX emissions.

Specifically, this action adjusts the definitions of “emergency” and “emergency engine” in RCSA section 22a-174-22e(a) to remove references to Operating Procedure No. 4 (OP-4). Additionally, two compliance options that rely on Operating Procedure No. 4 were removed from RCSA section 22a-174-22e(g). The compliance options removed had allowed, pursuant to a now outdated version of ISO New England's OP-4, turbines or engines that do not meet the NOX emissions limits of section 22a-174-22e to be called upon to operate during times of an electrical capacity deficiency. However, ISO New England has removed this provision from its OP-4, making these provisions within Connecticut's regulation obsolete. Removal of these provisions from the Connecticut SIP is consistent with the anti-backsliding provision of section 110(l) of the CAA because their removal strengthens the SIP by increasing the emission reduction potential of the rule by removing provisions that allowed certain high emitting equipment to operate during periods of an electrical capacity deficiency.

III. Proposed Action

EPA is proposing to approve the revision to the definitions of “emergency” and “emergency engine,” and to also approve related provisions in Connecticut's air pollution control regulations affected by this change, as discussed in section II. Connecticut submitted this SIP revision to EPA on December 20, 2019. EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference Connecticut's revision to the definitions of “emergency” and “emergency engine,” and to also approve related provisions in Connecticut's air pollution control regulations affected by this change as discussed in section II. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone.

Dated: March 8, 2021.
Deborah Szaro,
Acting Regional Administrator, EPA Region 1.

[FR Doc. 2021-05164 Filed 3-12-21; 8:45 am]

BILLING CODE 6560-50-P